DEPARTMENT OF COMMERCE

National Oceanic and Atmospheric Administration

[I.D. 022207G]

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 20-21, 2007. The Council will convene on Tuesday, March 20th, 2007, from 9 a.m. to 5 p.m., and the Administrative Committee will meet from 5:15 p.m. to 6 p.m., on that same day. The Council will reconvene on Wednesday, March 21, 2007, from 9 a.m. to 5 p.m., approximately.

ADDRESSES: The meetings will be held at the Hilton Ponce Golf and Casino, 1150 Caribe Avenue, Ponce, Puerto Rico 00716.

FOR FURTHER INFORMATION CONTACT: Caribbean Fishery Management Council, 268 Munoz Rivera Avenue, Suite 1108, San Juan, Puerto Rico 00918-1920; telephone: (787) 766-5926.

SUPPLEMENTARY INFORMATION: The Council will hold its 124th regular public meeting to discuss the items contained in the following agenda:

March 20, 2007

9 a.m. to 5 p.m.

Call to Order

Adoption of Agenda

Consideration of 123rd Council Meeting Verbatim Transcription

Executive Director's Report

MSA New Requirements - Roy Crabtree

Annual Catch Levels and Accountability Measure Requirements - Mark Millikin

Queen Conch Parasite Studies - Dalila Aldana

White Paper on Requirements/Needs to End Overfishing in the US Caribbean - Graciela Garcia-Moliner

Hawaii/US Caribbean Outreach and Education Project - Alida Ortiz

5:15 p.m. to 6 p.m.

Administrative Committee Meeting

Advisory Panel/Scientific and Statistical Committee (SSC)/Habitat Advisory Panel (HAP) Membership

Budget 2007

Changes to the SSC

Other Business

6 p.m. to 7 p.m.

Scoping Comment Period on Annual Catch Level and Accountability Measure Requirements

March 21, 2007

9 a.m. to 5 p.m.

Bycatch/Limited Entry/Spiny Lobster - Bob Trumble

Spiny Lobster Legal Opinion Minimum Size for Imports

Reeffish Project Update PR/USVI - Nancy Cummings

Report Deep Water Species Reproduction Puerto Rico - Aida Rosario

Enforcement Reports

Puerto Rico

U.S. Virgin Islands

NOAA

U.S. Coast Guard

Administrative Committee Recommendations (December 5, 2006 meeting)

Meetings Attended by Council Members and Staff

Other Business

Next Council Meeting

The meetings are open to the public, and will be conducted in English. However, simultaneous interpretation will be provided (English-Spanish). Fishers and other interested persons are invited to attend and participate with oral or written statements regarding agenda issues.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577; telephone: (787) 766-5926, at least 5 days prior to the meeting date.

Dated: February 26, 2007.
Tracey L. Thompson,
Acting Director, Office of Sustainable Fisheries, National Marine Fisheries Service.

[FR Doc. E7-3553 Filed 2-28-07; 8:45 am]

BILLING CODE 3510-22-S